NATIONAL AERONAUTICS AND SPACE ADMINISTRATION

[Notice (08-007)]

NASA Advisory Committee; Renewal of NASA's International Space Station Advisory Committee Charter

AGENCY: National Aeronautics and Space Administration (NASA).

ACTION: Notice of renewal and amendment of the Charter of the International Space Station Advisory Committee.

SUMMARY: Pursuant to sections 14(b)(1) and 9(c) of the Federal Advisory Committee Act (Pub. L. 92-463), and after consultation with the Committee Management Secretariat, General Services Administration, the Administrator of the National Aeronautics and Space Administration has determined that a renewal of the International Space Station Advisory Committee is in the public interest in connection with the performance of duties imposed on NASA by law. The renewed Charter is identical to the original Charter in all respects except that the Charter renewal is for nine months, rather than two years, and the minimum number of voting committee members has been reduced from ten to eight.

FOR FURTHER INFORMATION CONTACT: Dr. Glen R. Asner, Office of External Relations, National Aeronautics and Space Administration, Washington, DC 20546, (202) 358-0903.

P. Diane Rausch,
Advisory Committee Management Officer, National Aeronautics and Space Administration.

[FR Doc. E8-1067 Filed 1-22-08; 8:45 am]

BILLING CODE 7510-13-P